DEPARTMENT OF AGRICULTURE

Submission for OMB Review; Comment Request

March 7, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 12, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business Cooperative Service

Title: Intermediary Re-lending Program.

OMB Control Number: 0570-0021.

Summary of Collection: The objective of the Intermediary Relending Program (IRP) is to improve community facilities and employment opportunities and increase economic activity in rural areas by financing business facilities and community development. This purpose is achieved through loans made by the Rural Business-Cooperative Service (RBS) to intermediaries that establish programs for the purpose of providing loans to ultimate recipients for business facilities and community development. The Community Economic Development Act of 1981 (42 U.S.C. 9812(a), section 623(a)) provides for the Secretary the authority to make loans to nonprofit entities who will in turn provide financial assistance to rural businesses to improve business, industry and employment opportunities as well as provide a diversification of the economy in rural areas.

Need and Use of the Information: The information requested is necessary for RBS to process applications in a responsible manner, make prudent credit and program decisions, and effectively monitor the intermediaries' activities to protect the Government's financial interest and ensure that funds obtained from the Government are used appropriately. Various forms are used to include information to identify the intermediary, describe the intermediary's experience and expertise, describe how the intermediary will operate its revolving loan fund, provide for debt instruments, loan agreements, and security, and other material necessary for prudent credit decisions and reasonable program monitoring.

Description of Respondents: Not-for-profit institutions; Business or other for-profit.

Number Of Respondents: 240.

Frequency Of Responses: Reporting: On occasion.

Total Burden Hours: 24,820.

Rural Business-Cooperative Service

Title: Agriculture Innovation Centers.

OMB Control Number: 0570-0045.

Summary of Collection: The Farm Security and Rural Investment Act of 2002 (Pub. L. 107-171, signed May 13, 2002) authorized the Secretary of the U.S. Department of Agriculture (USDA) to award grant funds to Agriculture Innovation Centers (Centers). The Agricultural Act of 2014 reauthorized the program through 2018. The Centers provide a demonstration program under which agricultural producers are to be provided with technical and business development assistance enabling them to establish businesses producing and marketing value-added products. This program is administered by Cooperative Programs within USDA's Rural Development.

Need and Use of the Information: Information is collected by Rural Development State and Area office staff, as delegated, from applicants and grantees. Cooperative Programs uses the collected information to confirm that the applicant and use of funds meet the eligibility requirements for the program as well as to assess the quality of the proposed project. Grantees are required to submit financial status and performance reports to confirm that progress is being made toward achieving the stated goals of the project. A final report is submitted at the completion of the grant agreement. Centers may be non-profit corporations, for-profit corporations, institutions of higher learning, and consortia of the aforementioned entities.

Description of Respondents: Not-for-profit Institutions; Business or other for-profit.

Number of Respondents: 25.

Frequency of Responses: Reporting: Semi-annually.

Total Burden Hours: 1053.

Rural Business-Cooperative Service

Title: Rural Business Development Grants.

OMB Control Number: 0570-0070.

Summary of Collection: Agricultural Act of 2014, Public Law 113-79 (2014 Farm Bill) (7 U.S.C. 1932(c)), authorizes the Rural Business Development Grant (RBDG) program to facilitate the development of small and emerging private businesses, industries, and related employment as well as identifying and analyzing business opportunities, establishing business support centers, and providing training, technical assistance, and planning for improving the economy in rural communities.

Need and Use of the Information: The various forms and narrative requirements contained within this regulation are collected from applicants who are public bodies and private nonprofit organizations, and Indian Tribes. This information is for determining such factors as: (1) eligibility; (2) the specific purposes for which grant funds will be utilized; (3) timeframes or dates by which actions surrounding the use of funds will be accomplished; (4) who will be carrying out the purposes for which the grant is made; (5) project priority; (6) applicants' experience in administering a rural economic development program; (7) employment improvement; and (8) mitigation of economic distress of a community through the creation or salvation of jobs or emergency situations.

Description of Respondents: Business or other for-profit; State, local, and Tribal Governments.

Number of Respondents: 920.

Frequency of Responses: Reporting: Annually.

Total Burden Hours: 60,161.

Kimble Brown,
Departmental Information Collection Clearance Officer.

[FR Doc. 2019-04523 Filed 3-12-19; 8:45 am]

BILLING CODE 3410-XY-P